DEPARTMENT OF HOMELAND SECURITY

[Docket Number- DHS-2021-0052]

Agency Information Collection Activities: Office of the Citizenship and Immigration Services Ombudsman Request for Case Assistance Form (DHS Form 7001)

AGENCY: Department of Homeland Security (DHS).

ACTION: 60-Day notice and request for comments; extension of a currently approved collection, 1601-0004.

SUMMARY: The Department of Homeland Security will submit the following Information Collection Request (ICR) to the Office of Management and Budget (OMB) for review and clearance in accordance with the Paperwork Reduction Act of 1995.

DATES: Comments are encouraged and will be accepted until February 14, 2022. This process is conducted in accordance with 5 CFR 1320.1.

ADDRESSES: You may submit comments, identified by docket number Docket # DHS-2021-0052, at:

○ Federal eRulemaking Portal: http://www.regulations.gov. Please follow the instructions for submitting comments.

Instructions: All submissions received must include the agency name and docket number Docket # DHS-2021-0052. All comments received will be posted without change to http://www.regulations.gov, including any personal information provided.

Docket: For access to the docket to read background documents or comments received, go to http://www.regulations.gov.

SUPPLEMENTARY INFORMATION: The Office of the Citizenship and Immigration Services Ombudsman (CIS Ombudsman) was created under section 452 of the Homeland Security Act of 2002 (Pub. L. 107-296) to: (1) Assist individuals and employers in resolving problems with U.S. Citizenship and Immigration Services (USCIS); (2) to identify areas in which individuals and employers have problems in dealing with USCIS; and (3) to the extent possible, propose changes in the administrative practices of USCIS to mitigate problems. This form is used by an individuals and employers who are experiencing problems with USCIS during the processing of an immigration benefits.

The CIS Ombudsman collects and processes requests for case assistance electronically on the DHS Form 7001 through the Case Assistance Analytics and Data Integration (CAADI) system. Per Paperwork Reduction Act (PRA) requirements, a fillable PDF version of the form is also provided on the CIS Ombudsman's website. The PDF form may be completed online, printed and emailed or mailed to the CIS Ombudsman's office as indicated on the form. It is noted on the form that using the paper method may delay the processing time. After approval of the changes to the form as detailed below, the online form will be updated and posted on the CIS Ombudsman's website at http://www.dhs.gov/case-assistance for electronic submission of the form.

Summary of proposed form changes:

a. To save time for the customer:

a. New and improved instructions make it clear when it is appropriate to submit a request for case assistance and who can submit a request.

b. New instructions were added to the beginning of each section of the form; previously they were listed on a separate form.

b. To reduce processing time:

a. Form sections were re-ordered (see below) and expanded to obtain more information up front and in a logical order.

b. Enhanced instructions clarify the supporting documentation needed to submit along with the form to reduce the number of times customers are asked to provide additional documentation.

The revised DHS Form 7001 includes these re-ordered and named sections; 3 new sections are indicated in bold:

1. Actions Taken with USCIS for Resolution

a. Other Actions Taken

2. Reasons for Requesting Case Assistance

3. Applications/Petitions Filed

4. Type of Benefit Sought

5. Name of Applicant or Petitioner

6. Contact Information

7. Identification

8. Supporting Documentation

9. Consent for Applicant/Petitioner

10. Consent for Attorney/Accredited Representative

11. Consent for Family Member Applicants

12. Beneficiary Information for Employment-Based Petitions

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting the electronic submission of responses.

Analysis

Agency: Department of Homeland Security (DHS).

Title: Office of the Citizenship and Immigration Services Ombudsman Request for Case Assistance (DHS Form 7001).

OMB Number: 1601-0004.

Frequency: Annually.

Affected Public: Members of the Public.

Number of Respondents: 18,000.

Estimated Time per Respondent: 1 Hour.

Total Annual Reporting Burden Hours: 18,000.

Robert Dorr,
Executive Director, Business Management Directorate.

[FR Doc. 2021-27250 Filed 12-15-21; 8:45 am]

BILLING CODE 9112-FL-P